DEPARTMENT OF TRANSPORTATION

National Highway Traffic Safety Administration

[Docket No. NHTSA-2000-7965]

Notice of Receipt of Petition for Decision That Nonconforming 1999-2000 Porsche 911 GT3 Passenger Cars Are Eligible for Importation

AGENCY: National Highway Traffic Safety Administration, DOT.

ACTION: Notice of receipt of petition for decision that nonconforming 1999-2000 Porsche 911 GT3 passenger cars are eligible for importation.

SUMMARY: This document announces receipt by the National Highway Traffic Safety Administration (NHTSA) of a petition for a decision that 1999-2000 Porsche 911 GT3 passenger cars that were not originally manufactured to comply with all applicable Federal motor vehicle safety standards are eligible for importation into the United States because (1) they are substantially similar to vehicles that were originally manufactured for importation into and sale in the United States and that were certified by their manufacturer as complying with the safety standards, and (2) they are capable of being readily altered to conform to the standards.

DATES: The closing date for comments on the petition is November 6, 2000.

ADDRESS: Comments should refer to the docket number and notice number, and be submitted to: Docket Management, Room PL-401, 400 Seventh St., SW, Washington, DC 20590. [Docket hours are from 9 am to 5 pm].

FOR FURTHER INFORMATION CONTACT: George Entwistle, Office of Vehicle Safety Compliance, NHTSA (202-366-5306).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards.

Petitions for eligibility decisions may be submitted by either manufacturers or importers who have registered with NHTSA pursuant to 49 CFR Part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

Wallace Environmental Testing Laboratories, Inc. of Houston, Texas (“WETL”)(Registered Importer 90-005) has petitioned NHTSA to decide whether 1999-2000 Porsche 911 GT3 passenger cars are eligible for importation into the United States. The vehicles which WETL believes are substantially similar are 1999-2000 Porsche 911 passenger cars that were manufactured for importation into, and sale in, the United States and certified by their manufacturer as conforming to all applicable Federal motor vehicle safety standards.

The petitioner claims that it carefully compared non-U.S. certified 1999-2000 Porsche 911 GT3 passenger cars to their U.S.-certified counterparts, and found the vehicles to be substantially similar with respect to compliance with most Federal motor vehicle safety standards.

WETL submitted information with its petition intended to demonstrate that non-U.S. certified 1999-2000 Porsche 911 GT3 passenger cars, as originally manufactured, conform to many Federal motor vehicle safety standards in the same manner as their U.S. certified counterparts, or are capable of being readily altered to conform to those standards.

Specifically, the petitioner claims that non-U.S. certified 1999-2000 Porsche 911 GT3 passenger cars are identical to their U.S. certified counterparts with respect to compliance with Standard Nos. 102 Transmission Shift Lever Sequence * * *, 103 Defrosting and Defogging Systems, 104 Windshield Wiping and Washing Systems, 105 Hydraulic Brake Systems, 106 Brake Hoses, 109 New Pneumatic Tires, 113 Hood Latch Systems, 116 Brake Fluid, 118 Power Window Systems, 124 Accelerator Control Systems, 201 Occupant Protection in Interior Impact, 202 Head Restraints, 204 Steering Control Rearward Displacement, 205 Glazing Materials, 206 Door Locks and Door Retention Components, 207 Seating Systems, 209 Seat Belt Assemblies, 210 Seat Belt Assembly Anchorages, 212 Windshield Retention, 216 Roof Crush Resistance, 219 Windshield Zone Intrusion, and 302 Flammability of Interior Materials.

Petitioner also contends that the vehicles are capable of being readily altered to meet the following standards, in the manner indicated:

Standard No. 101 Controls and Displays: installation of a brake warning indicator if the vehicles are not already so equipped. The petitioner states that the vehicles are equipped with a digital speedometer which is capable of providing readings in kilometers or miles per hours. Although this unit is not identical to the one installed on U.S.-certified models, the petitioner contends that it meets the requirements of the standard.

Standard No. 108 Lamps, Reflective Devices and Associated Equipment: (a) Replacement of the taillight lenses with lenses that conform to the standard; (b) installation of left and right sidemarker lights. The petitioner states that the vehicles are equipped with headlight assemblies which bear DOT markings certifying that they meet the standard, even thought those assemblies are not identical to the ones installed on U.S. certified models. The petitioner also states that the vehicles are equipped at the factory with a high mounted stop lamp.

Standard No. 110 Tire Selection and Rims: installation of a tire information placard.

Standard No. 111 Rearview Mirror: replacement of the passenger side rearview mirror with a U.S.-model component on vehicles that are not already so equipped.

Standard No. 114 Theft Protection: installation of a warning buzzer and a warning buzzer microswitch in the steering lock assembly.

Standard No. 208 Occupant Crash Protection: (a) Replacement of the driver's seat belt latch and installation of a safety belt warning buzzer; (b) replacement of the driver's and passenger's side air bag system and knee bolsters with U.S.-model components on vehicles that are not already so equipped. The petitioner states that the vehicles are equipped at the front outboard seating positions with Type II seat belts.

Standard No. 214 Side Impact Protection: The petitioner states that the vehicles have a lower ride height than U.S. certified models, with the approximate front bumper clearance height being 4 9/16 inches, as opposed to 8 inches on U.S. certified models, and the rear bumper clearance height being 9 inches, as opposed to 10 inches on U.S. certified models. The petitioner states that either the vehicles' coil springs will be replaced with ones identical to those found on U.S. certified models, or spring spacers will be added so that the vehicles have the same ride height as their U.S. certified counterparts.

Standard No. 301 Fuel System Integrity: installation of a rollover valve in the fuel tank vent line between the fuel tank and the evaporative emissions collection canister on vehicles that are not already so equipped.

Additionally, the petitioner states that front and rear bumper shocks and rear bumper pads will be installed on non-U.S. certified 1999-2000 Porsche 911 GT3 passenger cars so that they comply with the Bumper Standard found in 49 CFR part 581. The petitioner states that ride height issues will be resolved through modifications made to conform the vehicles to Standard No. 214.

The petitioner also states that a vehicle identification number plate must be affixed to the vehicle to meet the requirements of 49 CFR part 565.

Additionally, the petitioner states that all vehicles will be inspected prior to importation to ensure that they are equipped with U.S.-model anti-theft devices, and that all vehicles that are not so equipped will be modified to comply with the Theft Prevention Standard at 49 CFR part 541.

Interested persons are invited to submit comments on the petition described above. Comments should refer to the docket number and be submitted to: Docket Management, Room PL-401, 400 Seventh St., SW, Washington, DC 20590. [Docket hours are from 9 am to 5 pm]. It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: October 2, 2000.
Marilynne Jacobs,
Director, Office of Vehicle Safety Compliance.

[FR Doc. 00-25696 Filed 10-5-00; 8:45 am]

BILLING CODE 4910-59-P